DEPARTMENT OF ENERGY

Federal Energy Regulatory Commission

[Docket No. RP04-102-001]

Pinnacle Pipeline Company; Notice of Compliance Filing

December 24, 2003.

Take notice that on December 17, 2003, Pinnacle Pipeline Company (Pinnacle) tendered for filing as part of its proposed FERC Gas Tariff, Original Volume 1, the tariff sheets listed in Appendix A to the filing.

Pinnacle states that its proposed tariff sheets are being submitted in compliance with the October 8, 2003, Certificate Order issued by the Commission in Docket No. CP03-323-000, et al., which authorized Pinnacle to operate and expand an existing pipeline lateral facility in the State of New Mexico, known as the Hobbs Lateral.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E3-00677 Filed 12-31-03; 8:45 am]

BILLING CODE 6717-01-P